DEPARTMENT OF COMMERCE

Bureau of the Census

Decision of the Secretary of Commerce to Release the Tabulations of Population Reported to States and Localities Pursuant to 13 U.S.C. 141(c)

AGENCY: Bureau of the Census, Department of Commerce.

ACTION: Notice.

SUMMARY: On March 6, 2001, the Secretary of Commerce announced his acceptance of the recommendations of the Census Bureau and made a final determination that unadjusted data should be used in calculating the tabulations of population to be reported to States and localities pursuant to 13 U.S.C. 141(c). This notice publishes the Secretary's decision memorandum of March 7, 2001, providing the rationale for his determination.

FOR FURTHER INFORMATION CONTACT: Alden F. Abbott, Acting General Counsel, U.S. Department of Commerce, (202) 482-1328.

SUPPLEMENTARY INFORMATION: Through the Census Act, which is codified in title 13 of the United States Code, Congress has delegated to the Secretary of Commerce its broad constitutional authority to conduct the decennial census (see U.S. Constitution Art. I, Sec. 2, Cl.3). Included in the Census Act is a requirement for the Secretary to report tabulations of population to States and localities pursuant to 13 U.S.C. 141(c).

To meet this reporting requirement in connection with Census 2000, the Secretary decided the appropriate methodology to be used in calculating the tabulations of populations to be reported to States and localities for redistricting purposes. The procedural framework within which the Secretary made his decision is codified at Part 101 of Title 15, Code of Federal Regulations. Specifically, a committee of senior career officials of the Census Bureau reported to the Director of the Census. This committee unanimously recommended the release of unadjusted data. The Director of the Census forwarded to the Secretary of Commerce the committee's report along with the Director's concurrence in and approval of the committee's recommendation (66 FR 14004, March 8, 2001). In addition, prominent non-Government statisticians and demographers each individually recommended to the Secretary the release of unadjusted data.

On March 6, 2001, the Secretary of Commerce announced his acceptance of the Census Bureau's recommendations and determined to release unadjusted data to the States for purposes of redistricting. Set forth below is the Secretary's decision memorandum of March 7, 2001, providing the rationale for his determination.

Dated: March 7, 2001.
Alden F. Abbott,
Acting General Counsel.

Decision of the Secretary of Commerce to Release the Tabulations of Population Reported to States and Localities Pursuant to 13 U.S.C. 141(c)

As Secretary of Commerce, I have the privilege of overseeing the Census Bureau and its decennial census activities. One of those activities is the production of population counts for State and local redistricting purposes, as required by the Census Act. Section 141(c) of the Census Act requires the Secretary of Commerce to complete and to report the tabulations of population to each State within one year after the decennial census date. For the 2000 decennial census, that deadline is April 1, 2001.

In conjunction with the actual enumeration conducted for the 2000 census, the Census Bureau also conducted an Accuracy and Coverage Evaluation (“A.C.E.”) and performed a detailed Demographic Analysis to evaluate the quality of the actual enumeration data. On March 1, 2001, the Acting Director of the Bureau of the Census, William G. Barron, Jr., forwarded to me the report and the recommendations of the Executive Steering Committee on A.C.E. Policy (ESCAP) regarding the data to be reported to the States as required by Section 141(c). The ESCAP was formed in November 1999 to “advise the Director in determining policy for the A.C.E. and the integration of the A.C.E. results into the census for all purposes except Congressional reapportionment.” The members of the ESCAP include twelve senior career Census Bureau professionals with advanced degrees and/or decades of experience in the Federal statistical system. Acting Director Barron is a member of the Committee.¹

¹ The ESCAP is composed of the following employees of the Bureau of the Census:

(i) Deputy Director and Chief Operating Officer; (ii) Principal Associate Director and Chief Financial Officer; (iii) Principal Associate Director for Program; (iv) Associate Director for Decennial Census (Chair); (v) Assistant Director for Decennial Census; (vi) Associate Director for Demographic Programs; (vii) Associate Director for Methodology and Standards; (viii) Chief; Planning, Research, and Evaluation Division; (ix) Chief; Decennial Management Division; (x) Chief; Decennial Statistical Studies Division; (xi) Chief; Population Division; and (xii) Senior Mathematical Statistician.

On October 6, 2000, the Department of Commerce delegated to the Director of the Census Bureau the final determination regarding the methodology to be used in calculating the tabulations of population reported to States and localities pursuant to 13 U.S.C. 141(c). This action also required the ESCAP to prepare a written report to the Director of the Census Bureau with a recommendation regarding the methodological decision. The delegation to the Director was revised on February 14, 2001, to provide that the Secretary of Commerce would make the final decision regarding the reporting of the redistricting data after receiving the recommendation, if any, of the Director of the Census Bureau, together with the ESCAP's report and the advice of other experts.²

² 66 Federal Register 11231, “Report of Tabulations of Population to States and Localities Pursuant to 13 U.S.C. 141(c); Revocation of Delegation of Authority,” February 23, 2001.

After evaluating a wide variety of evidence relating to the accuracy of Census 2000, in its March 1, 2001 report, the ESCAP recommended that the actual enumeration data be released as the Census Bureau's official redistricting data. The ESCAP was unable to conclude that data adjusted by use of the A.C.E. methodologies would be more accurate than the unadjusted data. The Committee reached these conclusions for several reasons:

1. Demographic Analysis estimates indicated fundamental differences with the results of the A.C.E. These differences could not be explained within the time available and raised the possibility of an as-yet undiscovered problem in the A.C.E. or census methodology.

2. The Census Bureau evaluations of synthetic error found variable results. These variable results indicate that synthetic error could, in certain circumstances, affect the results of a comparison of the adjusted and unadjusted data.

3. The Census Bureau also identified potential balancing error that indicated a possible upward bias for the A.C.E. undercount estimates, the effect of which might be a reduction in the A.C.E.'s net undercount estimates.

Acting Director Barron has advised me that he concurs with and approves the Committee's recommendation. In addition, I asked six prominent non-Government statisticians and demographers with extensive experience and knowledge of the methodologies and issues before the ESCAP to review the Committee's report and recommendation. Each of these experts also has individually expressed concurrence with the Committee's recommendation.

After considering these views and the ESCAP report, I hereby accept the recommendation of both the Acting Director and the ESCAP Committee, and determine that the unadjusted census data produced in Census 2000 be reported to the States pursuant to Section 141(c) of the Census Act as the Census Bureau's official redistricting data.

Dated: March 7, 2001.
Donald L. Evans,
Secretary.

[FR Doc. 01-6115 Filed 3-12-01; 8:45 am]

BILLING CODE 3510-07-U